FEDERAL COMMUNICATIONS COMMISSION

Sunshine Act; Open Commission Meeting; Thursday, May 15, 2014

May 8, 2014.

The Federal Communications Commission will hold an Open Meeting on the subjects listed below on Thursday, May 15, 2014. The meeting is scheduled to commence at 10:30 a.m. in Room TW-C305, at 445 12th Street SW., Washington, DC.

Public Comment on Item No. 1: Protecting and Promoting the Open Internet

With respect to agenda item 1, Protecting and Promoting the Open Internet, the Commission has determined that strict enforcement of the Sunshine Period prohibition on comment would place an unnecessarily restrictive burden on the public, who should have full opportunity to express their views. Therefore, the Commission is waiving the Sunshine Period prohibition contained in section 1.1203 of the Commission's rules, 47 CFR 1.1203, until 11:59 p.m. on Wednesday, May 14, 2014 with respect to this proceeding. Presentations and public comment on the Open Internet item listed below will be permitted until that time.

Item No. | Bureau | Subject
1 | WIRELINE COMPETITION | TITLE: Protecting and Promoting the Open Internet (GN Docket No. 14-28). SUMMARY: The Commission will consider a Notice of Proposed Rulemaking addressing the D.C. Circuit Court of Appeals' remand of portions of the Commission's 2010 Open Internet Order and proposing enforceable rules to protect and promote the open Internet.
2 | WIRELESS TELECOMMUNICATIONS | TITLE: Revisions to Rules Authorizing the Operation of Low Power Auxiliary Stations in the 698-806 MHz Band (WT Docket No. 08-166); Public Interest Spectrum coalition, Petition for Rulemaking Regarding Low Power Auxiliary Stations, Including Wireless Microphones, and the Digital Television Transition (WT Docket No. 08-167); Amendment of Parts 15, 74 and 90 of the Commission's Rules Regarding Low Power Auxiliary Stations, Including Wireless Microphones (ET Docket No. 10-24). SUMMARY: The Commission will consider a Report and Order that provides a limited expansion to the class of wireless microphone users eligible for a license.
3 | INCENTIVE AUCTION TASK FORCE | TITLE: Expanding the Economic and Innovation Opportunities of Spectrum Through Incentive Auctions (GN Docket No. 12-268). SUMMARY: The Commission will consider a Report and Order that adopts key policies and rules for the broadcast television spectrum incentive auction, laying the groundwork for an unprecedented, market-driven process for repurposing spectrum for mobile broadband use, and promoting competition and innovation.
4 | WIRELESS TELECOMMUNICATIONS | TITLE: Policies Regarding Mobile Spectrum Holdings (WT Docket No. 12-269). SUMMARY: The Commission will consider a Report and Order that modifies the Commission's policies and adopts rules regarding the aggregation of spectrum for mobile wireless services through initial licensing and secondary market transactions to preserve and promote competition.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary.

[FR Doc. 2014-11385 Filed 5-13-14; 4:15 pm]

BILLING CODE 6712-01-P